DEPARTMENT OF AGRICULTURE

Submission for OMB Review; Comment Request

December 7, 2005.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Risk Management Agency

Title: Premium Reduction Plan.

OMB Control Number: 0563-0079.

Summary of Collection: The Federal Crop Insurance Corporation (FCIC) amended the General Administrative Regulations to include provisions regarding the requests by approved insurance providers to implement the premium reduction plan authorized under section 508(e)(3) of the Federal Crop Insurance Act (Act) and the approval of the amount of a premium discount to be provided to farmers under the premium reduction plan. This program allows approved insurance providers to apply to FCIC for authority to reduce the premium charged to producers in accordance with Section 508(e)(3) of the Act, as amended, and to provide limitations and procedures established by FCIC.

Need and Use of the Information: To ensure that the Risk Management Agency (RMA) receives complete revised Plans of Operations complying with twelve requirements from approved insurance providers for the purpose of obtaining approval of premium reduction plans. An approved insurance provider can apply to RMA for authority to reduce premiums payable by producers if the approved insurance provider is able to provide insurance more efficiently than the administrative and operating expense reimbursement paid by RMA. RMA will review the information submitted to determine if the company can actually produce the efficiency required to reduce the premium.

Description of Respondents: Business or other for-profit, farms, Federal Government.

Number of Respondents: 90.

Frequency of Responses: Reporting: Annually.

Total Burden Hours: 1,095.

Charlene Parker,
Departmental Information Clearance Officer.

[FR Doc. E5-7247 Filed 12-12-05; 8:45 am]

BILLING CODE 3410-08-P